LEGAL SERVICES CORPORATION

Sunshine Act Meetings of the Board of Directors and Four of the Board's Committees

Times and Dates: The Legal Services Corporation Board of Directors and four of its Committees will meet on October 27 and 28, 2006 in the order set forth in the following schedule, with each subsequent meeting commencing shortly after adjournment of the prior meeting. The agenda for the October 28, 2006 meeting of the Annual Performance Reviews Committee will be announced in a separate public notice.

Meeting Schedule:

Friday, October 27, 2006, 2 p.m.

1. Provision for the Delivery of Legal Services Committee (Provisions Committee);

2. Operations & Regulations Committee.

Saturday, October 28, 2006, 8:30 a.m.

1. Annual Performance Reviews Committee (Performance Reviews Committee);

2. Finance Committee;

3. Board of Directors.

Location: The Charleston Marriott Town Center, 200 Lee Street East, Charleston, West Virginia.

Status of Meetings: Open, except as noted below.

• Status: October 28, 2006 Board of Directors Meeting—Open, except that a portion of the meeting of the Board of Directors may be closed to the public pursuant to a vote of the Board of Directors to hold an executive session. At the closed session, the Board will consider and may act on the General Counsel's report on litigation to which the Corporation is or may become a party, consider and may act on a report from outside counsel on litigation involving LSC in the states of New York and Oregon, receive a briefing from the Inspector General (IG),¹ receive a briefing from management on issues resulting from the Office of Inspector General's investigation of California Rural Legal Assistance, and may consider and may act on the report of the Annual Performance Reviews Committee on its plans for conducting the performance review of the LSC President and Inspector General. The closing is authorized by the relevant provisions of the Government in the Sunshine Act [5 U.S.C. 552b(c)(10)] and LSC's implementing regulation 45 CFR 1622.5(h). A copy of the General Counsel's Certification that the closing is authorized by law will be available upon request.

¹ Any portion of the closed session consisting solely of staff briefings does not fall within the Sunshine Act's definition of the term “meeting” and, therefore, the requirements of the Sunshine Act do not apply to such portion of the closed session. 5 U.S.C. 552(b)(a)(2) and (b). See also 45 CFR 1622.2 &1622.3.

Matters to Be Considered: Friday, October 27, 2006.

Provision for the Delivery of Legal Services Committee; Agenda

1. Approval of agenda.

2. Approval of the Committee's meeting minutes of July 28, 2006.

3. Presentation by Legal Aid of West Virginia (LAWV) on model domestic violence partnership project.

Presenters: Adrienne Worthy, LAWV Executive Director. Elizabeth Wehner, LAWV and Partnership Attorney. Angie Rosser, West Virginia Coalition Against Domestic Violence staff and LAWV coordinator.

This presentation will showcase LAWV's highly successful statewide partnership, a national model for collaboration. The presenters will particularly focus on how joint strategic planning and combined resources have led to better and increased services for victims of domestic violence in a predominately rural service area and ways in which they have involved the private bar in this partnership.

4. Staff presentation on highlights of the 2006 private attorney involvement panel presentations and preliminary thoughts for consideration.

5. Public comment.

6. Consider and act on other business.

7. Consider and act on adjournment of meeting.

Operations & Regulations Committee

October 27, 2006

Agenda

Open Session

1. Approval of agenda.

2. Approval of the minutes of the Committee's July 28, 2006 meeting.

3. Consider and act on Draft Final Rule revising 45 CFR part 1624, Prohibition Against Discrimination on the Basis of Handicap.

a. Staff report.

b. Public comment.

4. Consider and act on Draft Final Rule to revising 45 CFR part 1621, Client Grievance Procedure.

a. Staff report.

b. Public comment.

5. Consider and act on Freedom of Information Act (FOIA) Improvement Plan and Resolution #2006-014.

6. Staff report on history of regulatory activity since 1996.

7. Solicitation of ideas for regulatory agenda in 2007.

8. Staff report on dormant class action cases.

9. Other public comment.

10. Consider and act on other business.

11. Consider and act on adjournment of meeting.

Saturday, October 28, 2006

Performance Reviews Committee

Agenda

(The agenda for this meeting will be published separately in the Federal Register.)

Finance Committee

Agenda

1. Approval of agenda.

2. Approval of the minutes of the Committee's meetings of July 29, 2006 and September 18, 2006.

3. Presentation on LSC's Financial Reports for the Year Ending September 30, 2006.

• Presentation by David Richardson, Treasurer/Comptroller.

• Comments by Charles Jeffress, Chief Administrative Officer.

4. Consider and act on Resolution #2006-013, Resolution for Special Circumstances Operating Authority for FY 2007—Charles Jeffress.

5. Staff report on LSC's Directors and Officers Insurance—David Richardson.

6. Staff report on projected increase in LSC health insurance premiums—David Richardson.

7. Consider and act on adoption of revised budget procedures—Charles Jeffress.

8. Consider and act on other business.

9. Public comment.

10. Consider and act on adjournment of meeting.

Board of Directors

October 28, 2006

Agenda

Open Session

1. Approval of agenda.

2. Approval of minutes of the Board's meeting of July 29, 2006.

3. Approval of minutes of the Board's meeting of September 18, 2006.

4. Approval of minutes of the Board's telephonic meeting of September 22, 2006.

5. Approval of minutes of the Executive Session of the Board's meeting of July 29, 2006.

6. Approval of minutes of the Executive Session of the Board's meeting of September 18, 2006.

7. Approval of minutes of the Executive Session of the Board's meeting of September 22, 2006.

8. Chairman's Report.

9. Members' Reports.

10. President's Report.

11. Inspector General's Report.

12. Consider and act on the report of the Committee on Provision for the Delivery of Legal Services.

13. Consider and act on the report of the Finance Committee.

14. Consider and act on the report of the Operations & Regulations Committee.

15. Staff report on footnote to the Inspector General's Semiannual Report to Congress for the period of October 1, 2005 through March 31, 2006.

16. Staff report on LSC Management's response to the Office of Inspector General's September 2006 report on certain fiscal practices at LSC.

17. Discussion of outside counsel's report on under what circumstances the Government in the Sunshine Act permits a governing body to discuss, consider, deliberate and plan in closed session.

18. Consider and act on Director Fuentes's recommendation that the Board increase the frequency of its meetings and briefings from management and the Office of Inspector General.

19. Consider and act on other business.

20. Public comment.

21. Consider and act on whether to authorize an executive session of the Board to address items listed below under Closed Session.

Closed Session

22. Consider and act on the report of the Performance Reviews Committee.

23. Consider and act on General Counsel's report on potential and pending litigation involving LSC.

24. Consider and act on outside counsel's report on litigation involving LSC in the states of New York and Oregon.

25. IG briefing.

26. Management briefing on issues stemming from the OIG's investigation of California Rural Legal Assistance, Inc.

27. Consider and act on motion to adjourn meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: October 19, 2006.
Victor M. Fortuno,
Vice President for Legal Affairs, General Counsel & Corporate Secretary.

[FR Doc. 06-8853 Filed 10-19-06; 2:18 pm]

BILLING CODE 7050-01-P